DEPARTMENT OF HEALTH AND HUMAN SERVICES

Administration for Children and Families

Submission for OMB Review; National and Tribal Evaluation of the 2nd Generation of the Health Profession Opportunity Grants (OMB #0970-0462)

AGENCY: Office of Planning, Research, and Evaluation, Administration for Children and Families, HHS.

ACTION: Request for public comment.

SUMMARY: The Administration for Children and Families (ACF), U.S. Department of Health and Human Services (HHS) is proposing data collection activities as part of the Health Profession Opportunity Grants (HPOG) to Serve TANF Recipients and Other Low Income Individuals. ACF has developed a multi-pronged research and evaluation approach for the HPOG Program to better understand and assess the activities conducted and their results. Two rounds of HPOG grants have been awarded—the first in 2010 (HPOG 1.0) and the second in 2015 (HPOG 2.0). There are federal evaluations associated with each round of grants. HPOG grants provide funding to government agencies, community-based organizations, post-secondary educational institutions, and tribal-affiliated organizations to provide education and training services to Temporary Assistance for Needy Families (TANF) recipients and other low-income individuals, including tribal members. Under HPOG 2.0, ACF provided grants to five tribal-affiliated organizations and 27 non-tribal entities. OMB previously approved data collection under OMB Control Number 0970-0462 for the HPOG 2.0 National and Tribal Evaluation. The first submission, approved in August 2015, included baseline data collection instruments and the grant performance management system. A second submission, approved in June 2017, included additional data collection for the National Evaluation impact study, the National Evaluation descriptive study, and the Tribal Evaluation. A third submission for National Evaluation impact study data collection was approved in June 2018. The proposed data collection activities described in this Federal Register Notice will provide data for the impact, descriptive, and cost benefit studies of the 27 non-tribal grantees participating in the National Evaluation of HPOG 2.0.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget Paperwork Reduction Project Email: OIRA_SUBMISSION@OMB.EOP.GOV Attn: Desk Officer for the Administration for Children and Families.

Copies of the proposed collection may be obtained by emailing OPREinfocollection@acf.hhs.gov. Alternatively, copies can also be obtained by writing to the Administration for Children and Families, Office of Planning, Research and Evaluation, 330 C Street SW, Washington, DC 20201, Attn: OPRE Reports Clearance Officer. All requests, emailed or written, should be identified by the title of the information collection.

SUPPLEMENTARY INFORMATION:

Description: The HPOG 2.0 National Evaluation pertains only to the 27 non-tribal grantees that received HPOG 2.0 funding. The design for the National Evaluation features an impact study, a descriptive study, and a cost benefit study. The National Evaluation is using an experimental design to measure and analyze key participant outcomes including completion of education and training, receipt of certificates and/or degrees, earnings, and employment in a healthcare career. The impact evaluation will assess the outcomes for study participants that were offered HPOG 2.0 training, financial assistance, and support services, compared to outcomes for a control group that were not offered HPOG 2.0 services. ACF and the study team estimates that the non-tribal grantees will randomize about 40,000 applicants. As detailed in the burden estimates below, the study team will only survey a subset of those randomized. The goal of the descriptive study is to describe and assess the implementation, systems change, outcomes, and other important information about the operations of the 27 non-tribal HPOG grantees, which are operating 38 distinct programs. To achieve these goals, it is necessary to collect data about the non-tribal HPOG programs' design and implementation, HPOG partner and program networks, the composition and intensity of HPOG services received by participants, participant characteristics and HPOG experiences, and participant outputs and outcomes. The cost benefit study will estimate the costs of providing the HPOG 2.0 programs and compare the costs with gains in participant employment and earnings measured in the impact analysis. To achieve this goal, it is necessary to collect information from the 38 HPOG 2.0 programs on the cost of providing education and training and associated services. This Notice provides the opportunity to comment on proposed new information collection activities for the HPOG 2.0 National Evaluation's impact, descriptive, and cost-benefit studies.

The information collection activities to be submitted in the request package include:

1. Screening Interview to identify respondents for the HPOG 2.0 National Evaluation descriptive study second-round telephone interviews.

2. HPOG 2.0 National Evaluation descriptive study second-round telephone interview guide for program management, staff, partners, and stakeholders. These interviews will confirm or update information collected in a first round of calls, approved in June 2017. The second round interviews will update or confirm any new information about the HPOG program context and about program administration, activities and services, partner and stakeholder roles and networks, and respondent perceptions of the program's strengths.

3. HPOG 2.0 National Evaluation descriptive study program operator interview guide will collect information for the systems study from HPOG 2.0 programs operators. These interviews will collect information on how local service delivery systems (i.e., the economic and service delivery environment in which specific HPOG 2.0 programs operate) may have influenced HPOG program design and implementation and how HPOG 2.0 implementation may have influenced these local systems.

4. HPOG 2.0 National Evaluation descriptive study partner interview guide will collect information for the systems study from HPOG 2.0 partner organizations.

5. HPOG 2.0 National Evaluation descriptive study participant in-depth interview guide will collect qualitative information about the experiences of treatment group members participating in HPOG 2.0 program services.

6. Intermediate Follow-up Survey for the HPOG 2.0 National Evaluation impact study will collect information from both treatment and control group members at the 27 non-tribal grantees, approximately 36 months after baseline data collection and random assignment. (Instrument 18_HPOG 2.0 Intermediate Follow-up Survey_10172018_FINAL.doc)

7. HPOG 2.0 National Evaluation impact study instrument for a Pilot Study of Phone-Based Skills Assessment will collect information from HPOG 2.0 study participants in a subset of non-tribal grantee programs. The phone-based questionnaire will pilot an assessment of respondents' literacy and numeracy skills to inform the selection of survey questions for inclusion in the intermediate follow-up survey.

8. HPOG 2.0 National Evaluation Program Cost Survey will collect information from program staff at the 27 non-tribal grantees to support the cost-benefit study.

At this time, the Department does not foresee the need for any subsequent requests for clearance for the HPOG 2.0 National and Tribal Evaluations.

Respondents: HPOG impact study participants from the 27 non-tribal HPOG 2.0 grantees (treatment and control group); HPOG program managers; HPOG program staff; and representatives of partner agencies and stakeholders, including support service providers, educational and vocational training partners, Workforce Investment Boards, and TANF agencies.

Annual Burden Estimates
Instrument | Total number of respondents | Annual number of respondents | Number of responses per respondent | Average burden hours per response | Annual burden hours
Screening interview to identify respondents for the HPOG 2.0 National Evaluation descriptive study second-round telephone interviews | 38 | 13 | 1 | .5 | 7
HPOG 2.0 National Evaluation descriptive study second round telephone interview protocol | 190 | 63 | 1 | 1.25 | 79
HPOG 2.0 National Evaluation descriptive study program operator interview guide | 16 | 5 | 1 | 1.25 | 6
HPOG 2.0 National Evaluation descriptive study partner interview guide | 112 | 37 | 1 | 1 | 37
HPOG 2.0 National Evaluation descriptive study participant in-depth interview guide | 140 | 47 | 1 | 1.33 | 63
Intermediate follow-up survey for the HPOG 2.0 National Evaluation impact study | 4,000 | 1,333 | 1 | 1 | 1,333
HPOG 2.0 National Evaluation impact study instrument for a Pilot Study of Phone-Based Skills Assessment | 300 | 100 | 1 | .75 | 75
HPOG 2.0 National Evaluation program cost survey | 38 | 13 | 1 | 7 | 91

Estimated Total Annual Burden Hours: 1,691.

Authority: Section 2008 of the Social Security Act as enacted by Section 5507 of the Affordable Care Act.

Mary B. Jones,
ACF/OPRE Certifying Officer.

[FR Doc. 2019-08163 Filed 4-22-19; 8:45 am]

BILLING CODE 4184-72-P